ENVIRONMENTAL PROTECTION AGENCY

40 CFR Part 52

[OH155-2; FRL-7467-3]

Approval and Promulgation of Air Quality Implementation Plans; Ohio; Withdrawal of Direct Final Rule

AGENCY: Environmental Protection Agency (EPA).

ACTION: Withdrawal of direct final rule.

SUMMARY: Due to the receipt of an adverse comment, the EPA is withdrawing the direct final rule approving Ohio's State Implementation Plan for the Oxides of Nitrogen (NOX) State Implementation Plan Call. In the direct final rule published on January 16, 2003 (68 FR 2211), EPA stated that if EPA receives adverse comment by February 18, 2003, the NOX rule would be withdrawn and not take effect. On February 18, 2003, EPA subsequently received one comment from American Electric Power Service Corporation (AEP). We believe this comment is adverse and therefore, we are withdrawing the direct final rule. EPA will address the comment received from AEP in a subsequent final action based on the proposed action published on January 16, 2003.

DATES: The direct final rule published at 68 FR 2211 on January 16, 2003, is withdrawn as of March 17, 2003.

FOR FURTHER INFORMATION CONTACT: John Paskevicz, Engineer, Regulation Development Section, Air Programs Branch (AR-18J), U.S. Environmental Protection Agency, 77 West Jackson Boulevard, Chicago, Illinois, 60604. Telephone: (312) 886-6084. E-Mail Address: paskevicz.john@epa.gov.

List of Subjects in 40 CFR Part 52

Environmental protection, Air pollution control, Intergovernmental relations, Nitrogen oxides, Ozone, Reporting and recordkeeping requirements.

Authority: 42 U.S.C. 7401 et seq.

Dated: March 7, 2003.
Cheryl Newton,
Acting Regional Administrator, Region 5.

PART 52—[AMENDED]

Accordingly, the addition of 40 CFR 52.1870(c) (127) is withdrawn as of March 17, 2003.

[FR Doc. 03-6192 Filed 3-14-03; 8:45 am]

BILLING CODE 6560-50-P